DEPARTMENT OF COMMERCE

Office of the Secretary

Proposed Information Collection; Comment Request; Commerce Automated Job Application System

ACTION: Notice.

SUMMARY: The Department of Commerce (DOC), as part of its continuing effort to reduce paperwork and respondent burden, invites the general public and other Federal agencies to comment on the continuing and proposed information collection, as required by the Paperwork Reduction Act of 1995, Public Law 104-13 (44 U.S.C. 3506(c)(2)(A)).

DATES: Written comments must be submitted on or before September 7, 2004.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information should be directed to the attention of Thomas R. Krieder, Computer Specialist, (202) 482-0537, U.S. Department of Commerce, Office of Human Resources Management, IT Group, 14th & Constitution Ave, NW., Room 5004, Washington, DC 20230, or via e-mail to tkreider@doc.gov.

SUPPLEMENTARY INFORMATION:

I. Abstract

The Commerce automated job application system is a web-based software system that automates the vacancy announcement, application intake, application evaluation, and application referral processes, for positions in the Department of Commerce (DOC).

In the current employment environment qualified job applicants for federal positions are in great demand. The DOC is in direct competition with private industry for the same caliber of candidates with the requisite knowledge and skills to fulfill the mission of the DOC. Consequently, it is imperative that every available technology be employed if the DOC is to remain competitive and meet hiring goals. The information provided by a job applicant will assist the Human Resources Specialists and hiring managers in determining whether an applicant meets the basic qualifications requirements and is best qualified for the position being filled. The job applicant may also voluntarily respond to two surveys. One survey is designed to identify how applicants learned about the job to which they applied. The second survey is to identify their user satisfaction and identify problems/improvements which will make the system more user friendly. The information from both surveys provide data to improve the Commerce recruitment and outreach strategy to attract the best qualified job applicants. In addition, the electronic transmission will expedite the hiring process by reducing the time used in application evaluation, candidate referral and selection, and in the recruitment paperwork distribution/workflow process.

The Commerce automated job application system will provide the DOC with a more user-friendly on-line employment application process and will enable the DOC to process hiring actions in a more efficient and timely manner. The on-line application will provide an electronic real time candidate list that will allow the DOC to review applications from applicants almost instantaneously. Given the immediate hiring needs of the DOC, time consumed in the mail distribution system or paper review of applications delays the decision-making process by several weeks. The continued use of the electronic application will maintain or increase the speed and accuracy in the employment process. It also streamlines labor and reduces costs.

The use of the Commerce automated job application system fully meets the intent of 5 U.S.C. 2301, which requires that Federal personnel management be implemented consistent with merit system principles.

Since the Commerce automated job application system will be used as an alternative form of employment application, the collection and use of the information requires Office of Management and Budget (OMB) approval as outlined in Chapter 4, section A of the Delegated Examining Operations Handbook. The Handbook provides guidance to agencies under a delegated examining authority by the Office of Personnel Management (OPM), under the provisions of 5 U.S.C. 1104.

II. Method of Collection

Application information is collected electronically from the applicant through the Commerce automated job application system. Applicants may contact the DOC Web site on the Internet where they will find the on-line application and can fill out and submit the form electronically while connected to the Web site. Applicants who do not have access to a personal computer are directed to the servicing Human Resources Office for a paper version of the on-line announcement and application.

III. Data

OMB Number: 0690-0019.

Form Numbers: None.

Type of Review: Regular submission.

Affected Public: Individuals or households, and the Federal Government.

Estimated Number of Respondents: 30,000.

Estimated Time Per Response: On average, the time to complete the on-line application is estimated to be 1 hour. But, depending on the situation, it could take as little as 10 minutes or as long as two hours to complete the on-line application. This is determined by the position for which the applicant is applying, and whether this is the applicant's first application in Commerce automated job application system, or if he or she already has a resume completed in Commerce automated job application system, which automatically fills in approximately 75% of the application's fields.

Estimated Total Annual Respondent Burden Hours: 30,000.

Estimated Total Annual Respondent Cost Burden: $0.

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: June 30,2004.
Gwellnar Banks,
Management Analyst, Office of the Chief Information Officer.

[FR Doc. 04-15457 Filed 7-7-04; 8:45 am]

BILLING CODE 3510-17-P